DEPARTMENT OF ENERGY

Federal Energy Regulatory Commission

[Project No. 2438-107]

Seneca Falls Power Corporation; Notice of Application Accepted for Filing, Soliciting Comments, Motions To Intervene, and Protests

Take notice that the following hydroelectric application has been filed with the Commission and is available for public inspection:

a. Type of Application: License Amendment to Article 405.

b. Project No.: 2438-107.

c. Date Filed: March 5, 2014, and supplemented May 23, 2014.

d. Applicant: Seneca Falls Power Corporation.

e. Name of Project: Waterloo and Seneca Falls Hydroelectric Project.

f. Location: Seneca River in Seneca, Yates, Schuyler, and Ontario counties, New York.

g. Filed Pursuant to: Federal Power Act, 16 U.S.C. 791a-825r.

h. Applicant Contact: Mr. Cap Harper, Seneca Falls Power Corp., 3330 Clayton Road, Suite B, Concord, CA 94519, (925) 692-2198.

i. FERC Contact: Mr. Jeremy Jessup, (202) 502-6779, Jeremy.Jessup@ferc.gov.

j. Deadline for filing comments, motions to intervene, and protests, is 30 days from the issuance date of this notice by the Commission. The Commission strongly encourages electronic filing. Please file comments, motions to intervene, and protests using the Commission's eFiling system at http://www.ferc.gov/docs-filing/efiling.asp. Commenters can submit brief comments up to 6,000 characters without prior registration using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2438-107.

k. Description of Request: The applicant proposes to amend the operation of the project required by Article 405 of the project license. The applicant's proposed revisions to Article 405 reflect a modified Section 401 Water Quality Certificate (WQC) issued by the New York State Department of Environmental Conservation. In addition, the proposed changes aim to clearly define the seasonal impoundment elevations for Seneca Lake, the Waterloo impoundment, and Van Cleef Lake, and define the first priority of maintaining seasonal navigation on Van Cleef Lake. The following table summarizes the applicant's proposed operational changes at each impoundment:

Impoundment | License requirement | Proposed revision
Seneca Lake | Maintain within 0.1 foot of the seasonal target elevations of 446.0 feet Barge Canal Datum (BCD) during the summer and at 445.0 feet BCD during the winter | Maintain within ±0.3 foot of the seasonal target elevations of 446.0 feet BCD during the summer and 445.0 feet BCD during the winter. During flood control events the impoundment upper limit would be plus 0.55 feet.
Van Cleef Lake | Maintain at a target elevation of 430.5 feet BCD with a maximum daily water level fluctuation of ±0.25 foot | Maintain Van Cleef Lake impoundment at a target elevation of 430.5 feet BCD with a maximum daily water level fluctuation of ±0.25 foot. During the non-navigation season (December 1 to April 30), when so requested by local authorities and after consultation with the New York State Canal Corporation (NYSCC) Van Cleef Lake may be drawn down to an absolute minimum of 425.5 BCD.
Waterloo development | N/A | Maintain the Cayuga-Seneca Canal portion of the Waterloo impoundment as measured in close proximity to the powerhouse, at the location described in section B.6. of the modified WQC, such that the surface water elevation does not fluctuate more than 0.5 foot below the daily average surface elevation as measured at the NYSCC Geneva gage on Seneca Lake.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, and Protests: Anyone may submit comments, a motion to intervene, or protests in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any motion to intervene or protest must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 3, 2014.
Nathaniel J. Davis, Sr.,
Deputy Secretary.

[FR Doc. 2014-13364 Filed 6-6-14; 8:45 am]

BILLING CODE 6717-01-P